DEPARTMENT OF COMMERCE

International Trade Administration

A-588-862

High and Ultra-High Voltage Ceramic Station Post Insulators from Japan: Final Results of Sunset Review and Revocation of Order

AGENCY: Import Administration, International Trade Administration, Department of Commerce.

SUMMARY: On November 3, 2008, the Department of Commerce (Department) initiated the sunset review of the antidumping duty order on high and ultra-high voltage ceramic station post insulators from Japan. Because the domestic interested parties did not participate in this sunset review, the Department is revoking this antidumping duty order.

EFFECTIVE DATE: December 30, 2008

FOR FURTHER INFORMATION CONTACT: Elizabeth Eastwood, AD/CVD Operations, Office 2, Import Administration, International Trade Administration, U.S. Department of Commerce, 14th Street & Constitution Avenue, NW, Washington, DC 20230; telephone: (202) 482-3874.

SUPPLEMENTARY INFORMATION:

Background

On December 30, 2003, the Department issued an antidumping duty order on high and ultra-high voltage ceramic station post insulators from Japan. See Notice of Antidumping Duty Order: High and Ultra-High Voltage Ceramic Station Post Insulators from Japan, 68 FR 75211 (Dec. 30, 2003). On November 3, 2008, the Department initiated a sunset review of this order. See Initiation of Five-year (“Sunset”) Review, 73 FR 65292 (Nov. 3, 2008).

We did not receive a notice of intent to participate from domestic interested parties in this sunset review by the deadline date. As a result, in accordance with 19 CFR 351.218(d)(1)(iii)(A), the Department determined that no domestic interested party intends to participate in the sunset review, and on November 20, 2008, we notified the International Trade Commission, in writing, that we intended to issue a final determination revoking this antidumping duty order. See 19 CFR 351.218(d)(1)(iii)(B)(2).

Scope of the Order

The scope of this order covers station post insulators manufactured of porcelain, of standard strength, high strength, or extra-high strength,¹ solid core or cavity core, single unit or stacked unit, assembled or unassembled, and with or without hardware attached, rated at 115 kilovolts (kV) voltage class and above (550 kV Basic Impulse Insulation Level and above), including, but not limited to, those manufactured to meet the following American National Standards Institute, Inc. standard class specifications: T.R.-286, T.R.-287, T.R.-288, T.R.-289, T.R.-291, T.R.-295, T.R.-304, T.R.-308, T.R.-312, T.R.-316, T.R.-362 and T.R.-391.

¹ Station post insulators are manufactured in various styles and sizes, and are classified primarily according to the voltage they are designed to withstand. Under the governing industry standard issued by the Institute of Electrical and Electronic Engineers, the voltage spectrum is ivided into three broad classes: “medium” voltage (i.e., less than or equal to 69 kilovolts), “high” voltage (i.e., from 115 to 230 kilovolts), and "extra- high" or “ultra-high” voltage (i.e., greater than 230 kilovolts).

Subject merchandise is classifiable under subheading 8546.20.0060 of the Harmonized Tariff Schedule of the United States (HTSUS). While the HTSUS subheading is provided for convenience and customs purposes, the written description above remains dispositive as to the scope of this order.

Determination to Revoke

Pursuant to section 751(c)(3)(A) of the Tariff Act of 1930, as amended (the Act), and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(1)(i) and section 751(c)(3) of the Act, we are revoking this antidumping duty order. The effective date of revocation is December 30, 2008, the fifth anniversary of the date the Department published this antidumping duty order. See 19 CFR 351.222(i)(2)(i).

Effective Date of Revocation

Pursuant to section 751(c)(3)(A) of the Act and 19 CFR 351.222(i)(2)(i), the Department will issue instructions to U.S. Customs and Border Protection, 15 days after publication of the notice, to terminate the suspension of liquidation of the merchandise subject to this order entered, or withdrawn from warehouse, on or after December 30, 2008. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (sunset) review and notice are in accordance with sections 751(c) and 777(i)(1) of the Act.

Dated: December 8, 2008.
Stephen J. Claeys,
Deputy Assistant Secretary for Antidumping and Countervailing Duty Operations.

[FR Doc. E8-29487 Filed 12-11-08; 8:45 am]

BILLING CODE 3510-DS-S